FEDERAL EMERGENCY MANAGEMENT AGENCY

Fee for Services To Support FEMA's Offsite Radiological Emergency Preparedness (REP) Program

AGENCY: Federal Emergency Management Agency (FEMA).

ACTION: Notice.

SUMMARY: In accordance with regulations FEMA has established a Fiscal Year (FY) 2002 hourly rate of $36.71 for assessing and collecting fees from Nuclear Regulatory Commission (NRC) licensees for services provided by FEMA personnel for FEMA's REP Program.

DATES: This user fee hourly rate is effective for FY 2002 (October 1, 2001, to September 30, 2002).

FOR FURTHER INFORMATION CONTACT: Mr. Russell Salter, Division Director, Technological Hazards Division, Readiness, Response, and Recovery Directorate, Federal Emergency Management Agency, 500 C Street SW., Washington, DC 20472, (202) 646-3030 (phone), or (email) russ.salter@fema.gov.

SUPPLEMENTARY INFORMATION: As authorized by Public Law 105-276, 112 Stat. 2461, FEMA we will charge an hourly user fee rate of $36.71 to NRC licensees of commercial nuclear power plants for all REP Program site-specific related services provided by FEMA personnel as described in 44 CFR Part 354. FEMA will deposit these funds in the REP Program Fund to offset the actual costs by FEMA for its REP Program.

FEMA established the hourly rate on the basis of the methodology set forth in 44 CFR 354.4(b), “Determination of site-specific biennial exercise related component for FEMA personnel,” and will use the rate to assess and collect fees for site-specific biennial exercise related services rendered by FEMA personnel. This hourly rate only addresses charges to NRC licensees for services that FEMA personnel provide under the site-specific component, not charges for services FEMA personnel provide under the flat fee component referenced at 44 CFR 354.4(d), nor for services that FEMA contractors provide. We will charge for FEMA contractors' services in accordance with 44 CFR 354.4(c) and (d) for the recovery of appropriated funds obligated for the Emergency Management Planning and Assistance (EMPA) portion of FEMA's REP Program budget.

Kenneth S. Kasprisin,
Assistant Director, Readiness, Response and Recovery Directorate.

[FR Doc. 01-31702 Filed 12-26-01; 8:45 am]

BILLING CODE 6718-06-P